DEPARTMENT OF AGRICULTURE

Food and Nutrition Service

Agency Information Collection Activities: Proposed Collection; Comments Request—Summer Food Service Program (SFSP) Integrity Study

AGENCY: Food and Nutrition Service (FNS), USDA.

ACTION: Notice.

SUMMARY: In accordance with the Paperwork Reduction Act of 1995, this notice invites the general public and other public agencies to comment on this proposed information collection. This collection is a new collection. The primary purpose of this study is to provide FNS with information about how the Summer Food Service Program (SFSP) is administered and monitored by State agencies and SFSP sponsors and sites, and identify common SFSP integrity challenges.

DATES: Written comments must be received on or before May 6, 2019.

ADDRESSES: Comments may be sent to: Chanchalat Chanhatasilpa, Food and Nutrition Service, U.S. Department of Agriculture, 3101 Park Center Drive, Room 1000, Alexandria, VA 22302. Comments may also be submitted via fax to the attention of Chanchalat Chanhatasilpa at 703-305-2576 or via email to Chanchalat.Chanhatasilpa@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Chanchalat Chanhatasilpa at 703-305-2115.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Summer Food Service Program (SFSP) Integrity Study.

Form Number: Not applicable.

OMB Number: 0584-NEW.

Expiration Date: Not Yet Determined.

Type of Request: New collection.

Abstract: Congress created the SFSP in 1968 to ensure that low-income children continue to receive nutritious meals when school is not in session and they do not have access to free or low-cost meals through the National School Lunch (NSLP) and School Breakfast Programs (SBP). The SFSP provides free meals and snacks in congregate settings to children in areas with high concentrations of low-income households with children, primarily in the summer months from May to September. USDA's Food and Nutrition Service (FNS) administers SFSP at the Federal level. State agencies administer the program through agreements with sponsors, including school food authorities (SFAs), local government agencies, camps, and private nonprofit organizations. Sponsors oversee the program at one or more eligible sites that serve the meals. Sites are located in a variety of settings such as schools, churches, parks, playgrounds, community and recreation centers, and camps.

Several laws aim to improve the integrity of the Federal government's payments and the efficiency of its programs and activities. The Improper Payments Elimination and Recovery Act of 2010 (Pub. L. 111-204) and the Improper Payments Elimination and Recovery Improvement Act of 2012 (Pub. L. 112-248) require Federal agencies to review programs and activities every three years to identify those that may be vulnerable to significant improper payments. If results identify any programs as high risk, agencies are required to provide valid annual estimates of improper payments, following guidance in Office of Management and Budget Circular A-123.

FNS's assessments of SFSP in April 2014 and May 2017 concluded that it is at low risk for improper payments. However, recent efforts to address summer food insecurity through improving access to SFSP have increased program expenditures, which may lead to increased risk of improper payments. Additionally, SFSP presents unique challenges to ensuring program integrity and measuring improper payments. In most cases, eligibility and reimbursement in SFSP are not based on the household income of the individual children participating in the program, but rather on the aggregate socioeconomic status of the area around the site (open sites) or of the children enrolled in the program (closed enrolled sites).¹ By their nature, many SFSP sites are much less structured than other meal programs,² which may make training and monitoring more challenging. Finally, the Office of Inspector General recently reviewed SFSP to determine whether its controls were sufficient and found several areas for improvement.³

¹ Camps receive Federal reimbursement only for meals and snacks served to children eligible for free or reduced price meals.

² SFSP offers flexibility with regard to where meals may be served (e.g., schools, parks, churches, apartment complexes), how meals are prepared (e.g., sites receive meals from a vendor, from their sponsor, or the sponsor prepares meals on-site), and other factors. Furthermore, sponsors may oversee different types of sites (e.g., open, restricted open, closed enrolled), and may follow different procedures to train and monitor each site type.

³ FNS Controls Over Summer Food Service Program, Audit Report 27601-0004-41. This audit is the first phase of a three-phase audit on controls over SFSP.

FNS is conducting a study, the Summer Food Service Program (SFSP) Integrity Study, to provide information about how State agencies and SFSP sponsors and sites administer and provide effective oversight of the SFSP to ensure program integrity, and to identify common SFSP integrity challenges. The key research objectives are to: (1) Describe how State agencies administer and provide SFSP oversight and why they believe it is effective; (2) identify SFSP integrity challenges; and (3) identify existing or State-recommended resources, training, or technical assistance that would better support the effective administration and monitoring of the SFSP.

The study approach includes a survey and key informant interviews. Data will be collected via a web-based survey of the 54 State Child Nutrition Directors that oversee SFSP, followed by in-depth telephone interviews with 18 selected State Child Nutrition Directors and 36 State-level key staff. Following the State-level data collection, we will conduct telephone interviews with 48 sponsor directors and 48 sponsor key staff, and 48 Site Supervisors.

Affected Public: Respondent groups identified include: (1) State, Local and Tribal Government (State Child Nutrition (CN) agencies and SFSP sponsors and sites); and (2) Profit/Non-Profit Businesses (SFSP sponsors and sites). The burden for all respondents is broken down in the table below.

Estimated Number of Respondents: The total estimated number of respondents is 570 (258 respondents and 312 non-respondents). The study includes 54 State Child Nutrition Agency directors, 36 State Child Nutrition Agency key staff involved in SFSP oversight, 192 SFSP sponsor directors, 48 sponsor key staff, and 240 SFSP site supervisors. These estimates assume that 132 respondents from among the SFSP sponsor directors and 180 respondents among the SFSP sites will either not be reachable or will decline to participate.⁴

⁴ Based on our experience with recruitment for a similar study, we expect to recruit significantly more sponsors and sites than we will ultimately interview. To determine the number of respondents we need to recruit we multiplied our target number of SFSP sponsors by a factor of four, and our target number of SFSP sites by a factor of five.

Estimated Frequency of Response: The estimated frequency of response is 4.03 annually for respondents and 1.24 annually for non-respondents.

Estimated Total Annual Responses: The total estimated number of responses for data collection is 1,427. This includes 1,040 for respondents and 387 for non-respondents.

Estimated Time per Respondent: The estimated time of response varies from 1 minute to 1 hour, depending on the respondent group and activity, as shown in the table below. The average estimated response is 0.17 hours.

Estimated Total Annual Burden on Respondents: The total public reporting burden for this collection of information is estimated at 238 hours (annually). The estimated burden for each type of respondent is provided in the Estimated Respondent Table (Table 1) below:

Dated: February 28, 2019.
Brandon Lipps,
Administrator, Food and Nutrition Service.

Table 1—Estimated Respondent Burden
Respondent category | Type of respondents | Instruments | Sample size | Responsive: Number of respondents | Responsive: Frequency of response | Responsive: Total annual responses | Responsive: Hours per response | Responsive: Annual burden (hours) | Non-Responsive: Number of non- respondents ᵇ | Non-Responsive: Frequency of response | Non-Responsive: Total annual responses | Non-Responsive: Hours per response | Non-Responsive: Annual burden (hours) ᵃ | Non-Responsive: Grand total annual burden estimate (hours)
State Child Nutrition (CN) Agency | State Director | Electronic Study Notification Letter from FNS | 54 | 54 | 1 | 54 | 0.0501 | 2.7 | 0 | 0 | 0 | 0.000 | 0.0 | 2.7
|  | Electronic Letter of Support from Regional Office | 54 | 54 | 1 | 54 | 0.0501 | 2.7 | 0 | 0 | 0 | 0.000 | 0.0 | 2.7
|  | Electronic Letter with Link to Online Survey | 54 | 40 | 1 | 40 | 0.0501 | 2.0 | 14 | 1 | 14 | 0.0501 | 0.7 | 2.7
|  | Electronic Survey Reminder Letter #1 | 40 | 30 | 1 | 30 | 0.0167 | 0.5 | 10 | 1 | 10 | 0.0167 | 0.2 | 0.7
|  | Electronic Survey Reminder Letter #2 | 30 | 20 | 1 | 20 | 0.0167 | 0.3 | 10 | 1 | 10 | 0.0167 | 0.2 | 0.5
|  | Electronic Survey Reminder Letter #3 | 20 | 10 | 1 | 10 | 0.0167 | 0.2 | 10 | 1 | 10 | 0.0167 | 0.2 | 0.3
|  | Electronic Survey Reminder Letter #4 | 10 | 5 | 1 | 5 | 0.0167 | 0.1 | 5 | 1 | 5 | 0.0167 | 0.1 | 0.2
|  | Phone Calls to Nonrespondent State Directors | 5 | 5 | 1 | 5 | 0.1670 | 0.8 | 0 | 0 | 0 | 0.000 | 0.0 | 0.8
|  | Online survey | 54 | 54 | 1 | 54 | 0.3340 | 18.0 | 0 | 0 | 0 | 0.000 | 0.0 | 18.0
|  | Electronic thank you note following survey completion | 54 | 54 | 1 | 54 | 0.0167 | 0.9 | 0 | 0 | 0 | 0.000 | 0.0 | 0.9
|  | Electronic Letter from Westat with Request to Schedule Phone Interview | 20 | 18 | 1 | 18 | 0.1670 | 3.0 | 2 | 1 | 2 | 0.1670 | 0.3 | 3.3
|  | In-Depth Phone Interview (includes consent) | 18 | 18 | 1 | 18 | 1.0000 | 18.0 | 0 | 0 | 0 | 0.000 | 0.0 | 18.0
|  | In-Depth Interview Follow Up and Thank You Note | 18 | 18 | 1 | 18 | 0.0501 | 0.9 | 0 | 0 | 0 | 0.000 | 0.0 | 0.9
|  | Electronic Notification Letter from Westat Regarding SFSP Sponsor Selection | 18 | 18 | 1 | 18 | 0.0501 | 0.9 | 0 | 0 | 0 | 0.000 | 0.0 | 0.9
|  | Electronic Letter from State CN Agency to Selected SFSP Sponsors | 18 | 18 | 1 | 18 | 0.1670 | 3.0 | 0 | 0 | 0 | 0.000 | 0.0 | 3.0
| State Key Staff | In-Depth Phone Interview (includes consent) | 36 | 36 | 1 | 36 | 1.0000 | 36.0 | 0 | 0 | 0 | 0.000 | 0.0 | 36.0
|  | In-Depth Interview Follow Up and Thank You Note | 36 | 36 | 1 | 36 | 0.0501 | 1.8 | 0 | 0 | 0 | 0.000 | 0.0 | 1.8
State Government Sub-Total |  |  | 90 | 90 | 5.42 | 488 | 0.1883 | 91.9 | ᵉ 0 | 0.00 | 51 | 0.0318 | 1.6 | 93.5
SFSP Sponsor | Director | Electronic Study Notification Letter from State CN Agency | ᶜ 96 | 30 | 1 | 30 | 0.0501 | 1.5 | 66 | 1 | 66 | 0.0501 | 3.3 | 4.8
|  | Electronic Study Notification Letter from Westat, incl. Request to Schedule Phone Interview | 30 | 24 | 1 | 24 | 0.0501 | 1.2 | 6 | 1 | 6 | 0.0501 | 0.3 | 1.5
|  | In-Depth Phone Interview (includes consent) | 24 | 24 | 1 | 24 | 0.7500 | 18.0 | 0 | 0 | 0 | 0.0000 | 0.0 | 18.0
|  | In-Depth Interview Thank You Note and Request for Assistance with SFSP Site Recruitment | 24 | 24 | 1 | 24 | 0.1670 | 4.0 | 0 | 0 | 0 | 0.0000 | 0.0 | 4.0
|  | Electronic Letter from SFSP Sponsor to Selected SFSP Site | 24 | 24 | 1 | 24 | 0.0835 | 2.0 | 0 | 0 | 0 | 0.0000 | 0.0 | 2.0
| Key Staff | In-Depth Phone Interview (includes consent) | 24 | 24 | 1 | 24 | 0.7500 | 18.0 | 0 | 0 | 0 | 0.0000 | 0.0 | 18.0
|  | In-Depth Interview Thank You Note and Request for Assistance with SFSP Site Recruitment | 24 | 24 | 1 | 24 | 0.1670 | 4.0 | 0 | 0 | 0 | 0.0000 | 0.0 | 4.0
SFSP Site | Supervisor | Electronic Study Notification Letter from State CN Agency | ᵈ 120 | 30 | 1 | 30 | 0.0501 | 1.5 | 90 | 1 | 90 | 0.0501 | 4.5 | 6.0
|  | Electronic Study Notification Letter from Westat, incl. Request to Schedule Phone Interview | 30 | 24 | 1 | 24 | 0.0501 | 1.2 | 6 | 1 | 6 | 0.0501 | 0.3 | 1.5
|  | In-Depth Phone Interview (includes consent) | 24 | 24 | 1 | 24 | 0.5000 | 12.0 | 0 | 0 | 0 | 0.0000 | 0.0 | 12.0
|  | In-Depth Interview Thank You Note | 24 | 24 | 1 | 24 | 0.0167 | 0.4 | 0 | 0 | 0 | 0.0000 | 0.0 | 0.4
Local Government Sub-Total |  |  | 240 | 84 | 3.29 | 276 | 0.2313 | 63.8 | 156 | 1.08 | 168 | 0.0501 | 8.4 | 72.2
State, Local, and Tribal Government Sub-Total |  |  | 330 | 174 | 4.39 | 764 | 0.2038 | 155.7 | 156 | 1.40 | 219 | 0.0458 | 10.0 | 165.8
SFSP Sponsor | Director | Electronic Study Notification Letter from State CN Agency | ᶜ 96 | 30 | 1 | 30 | 0.0501 | 1.5 | 66 | 1 | 66 | 0.0501 | 3.3 | 4.8
|  | Electronic Study Notification Letter from Westat, incl. Request to Schedule Phone Interview | 30 | 24 | 1 | 24 | 0.0501 | 1.2 | 6 | 1 | 6 | 0.0501 | 0.3 | 1.5
|  | In-Depth Phone Interview (includes consent) | 24 | 24 | 1 | 24 | 0.7500 | 18.0 | 0 | 0 | 0 | 0.0000 | 0.0 | 18.0
|  | In-Depth Interview Thank You Note and Request for Assistance with SFSP Site Recruitment | 24 | 24 | 1 | 24 | 0.1670 | 4.0 | 0 | 0 | 0 | 0.0000 | 0.0 | 4.0
|  | Electronic Letter from SFSP Sponsor to Selected SFSP Site | 24 | 24 | 1 | 24 | 0.0835 | 2.0 | 0 | 0 | 0 | 0.0000 | 0.0 | 2.0
| Key Staff | In-Depth Phone Interview (includes consent) | 24 | 24 | 1 | 24 | 0.7500 | 18.0 | 0 | 0 | 0 | 0.0000 | 0.0 | 18.0
|  | In-Depth Interview Thank You Note and Request for Assistance with SFSP Site Recruitment | 24 | 24 | 1 | 24 | 0.1670 | 4.0 | 0 | 0 | 0 | 0.0000 | 0.0 | 4.0
SFSP Site | Supervisor | Electronic Study Notification Letter from SFSP Sponsor | ᵈ 120 | 30 | 1 | 30 | 0.0501 | 1.5 | 90 | 1 | 90 | 0.0501 | 4.5 | 6.0
|  | Electronic Study Notification Letter from Westat, incl. Request to Schedule Phone Interview | 30 | 24 | 1 | 24 | 0.0501 | 1.2 | 6 | 1 | 6 | 0.0501 | 0.3 | 1.5
|  | In-Depth Phone Interview (includes consent) | 24 | 24 | 1 | 24 | 0.5000 | 12.0 | 0 | 0 | 0 | 0.0000 | 0.0 | 12.0
|  | In-Depth Interview Thank You Note | 24 | 24 | 1 | 24 | 0.0167 | 0.4 | 0 | 0 | 0 | 0.0000 | 0.0 | 0.4
Profit/Non-Profit Business Sub-total |  |  | 240 | 84 | 3.29 | 276 | 0.231 | 63.8 | 156 | 1.08 | 168 | 0.050 | 8.4 | 72.2
Total |  |  | 570 | 258 | 4.03 | 1,040 | 0.2111 | 219.6 | 312 | 1.24 | 387 | 0.0477 | 18.5 | 238.0
Footnotes:
ᵃ Annual burden hours are rounded to the nearest tenth.
ᵇ The number of nonrespondents at all levels is the difference between sample size and number of respondents.
ᶜ Based on our experience with a similar study, we multiplied our target number of SFSP sponsors by a factor of 4 to determine the number needed to recruit
ᵈ Based on our experience with a similar study, we multiplied our target number of SFSP sites by a factor of 5 to determine the number needed to recruit.
ᵉ The number of State-level nonrespondents is zero because we assume that all State level respondents will participate in at least one data collection activity—either the survey or the interview.

[FR Doc. 2019-04090 Filed 3-6-19; 8:45 am]

BILLING CODE 3410-30-P